DEPARTMENT OF THE INTERIOR

National Park Service

[NPS-WASO-NAGPRA-NPS0039037; PPWOCRADN0-PCU00RP14.R50000]

Notice of Inventory Completion: San Bernardino County Museum, Redlands, CA

AGENCY: National Park Service, Interior.

ACTION: Notice.

SUMMARY: In accordance with the Native American Graves Protection and Repatriation Act (NAGPRA), the San Bernardino County Museum has completed an inventory of human remains and associated funerary objects and has determined that there is a cultural affiliation between the human remains and associated funerary objects and Indian Tribes or Native Hawaiian organizations in this notice.

DATES: Repatriation of the human remains and associated funerary objects in this notice may occur on or after December 16, 2024.

ADDRESSES: Tamara Serrao-Leiva, San Bernardino County Museum, 2024 Orange Tree Lane, Redlands, CA 92374, telephone (909) 798-8623, email tserrao-leiva@sbcm.sbcounty.gov.

SUPPLEMENTARY INFORMATION: This notice is published as part of the National Park Service's administrative responsibilities under NAGPRA. The determinations in this notice are the sole responsibility of the San Bernardino County Museum, and additional information on the determinations in this notice, including the results of consultation, can be found in its inventory or related records. The National Park Service is not responsible for the determinations in this notice.

Abstract of Information Available

Human remains representing, at least, one individual and three lots of associated funerary objects (one lot of stone, one lot of ceramics, and one lot of bone tools) were removed from a roasting pit under the freeway at Mountain Pass (also known as Cajon Pass) Interstate 15 in 1924, predating Caltrans ownership. Field notes state that an individual named “Waite” excavated the remains in 1924, but the collection was not donated to the museum until July 31, 1976, by E.L. McFarlane, at which point the AFOs were given accession numbers (A1361-1, A1361-5, A1361-6).

A preponderance of the evidence supports a determination that the individuals are Native American, based on the artefactual context and skeletal taphonomy. Ethnohistoric evidence indicates that the area around the Cajon Pass was occupied by the Serrano Tribe during the prehistoric and protohistoric period. This area has traditionally been identified as Serrano ancestral territory. Serrano tribal leader Santos Manuel (namesake of the Yuhaaviatam of San Manuel Nation) when being interviewed by John P. Harrington in the early 1900s, calls the area of Cajon Pass “amutskupiat”, a Serrano space.

Human remains representing, at least, one individual and four lots of associated funerary objects (one lot of lithic tools, one lot of shell, one lot of charcoal, and one lot of faunal remains) were removed from archaeological site SBCM-39 (CA-SBr-01457). The site is situated on Rialto Bench overlooking Lytle Creek Wash near the mouth of Cajon Canyon. San Bernardino County Museum's first record of the site is from 1939. Level Report Forms from California State Polytechnic University Pomona show additional excavation or survey continued or restarted in 1982. In a preliminary report on the Rialto Bench Project written by Julie C Wizorek in 1984, it is stated that Richard Reynolds of the Page Museum and Bob Yohe assisted in identifying bone, bone tools, and animal teeth from the site. Two human teeth were identified as deciduous (or primary) teeth.

A preponderance of the evidence supports a determination that the individuals are Native American, based on the artefactual context and skeletal taphonomy. Ethnohistoric evidence indicates that the area around the Cajon Pass was occupied by the Serrano tribe during the prehistoric and protohistoric period. This area has traditionally been identified as Serrano ancestral territory. Serrano tribal leader Santos Manuel (namesake of the Yuhaaviatam of San Manuel Nation) when being interviewed by John P. Harrington in the early 1900s, identified two Serrano villages in the vicinity. Papiambit, located on the edge of Lytle Creek and Apuritaimbit, southeast along Lytle Creek Wash.

Cultural Affiliation

Based on the information available and the results of consultation, cultural affiliation is reasonably identified by the geographical location or acquisition history of the human remains and associated funerary objects described in this notice.

Determinations

The San Bernardino County Museum has determined that:

• The human remains described in this notice represent the physical remains of two individuals of Native American ancestry.

• The seven lots described in this notice are reasonably believed to have been placed intentionally with or near individual human remains at the time of death or later as part of the death rite or ceremony.

• There is a connection between the human remains and associated funerary objects described in this notice and the Morongo Band of Mission Indians, California and the Yuhaaviatam of San Manuel Nation (previously listed as San Manuel Band of Mission Indians, California).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 16, 2024. If competing requests for repatriation are received, the San Bernardino County Museum must determine the most appropriate requestor prior to repatriation. Requests for joint repatriation of the human remains and associated funerary objects are considered a single request and not competing requests. The San Bernardino County Museum is responsible for sending a copy of this notice to the Indian Tribes and Native Hawaiian organizations identified in this notice.

Authority: Native American Graves Protection and Repatriation Act, 25 U.S.C. 3003, and the implementing regulations, 43 CFR 10.10.

Dated: November 7, 2024
Melanie O'Brien,
Manager, National NAGPRA Program.

[FR Doc. 2024-26453 Filed 11-13-24; 8:45 am]

BILLING CODE 4312-52-P